INTERNATIONAL TRADE COMMISSION

[Investigation No. 337-TA-1124]

Certain Powered Cover Plates; Issuance of a General Exclusion Order and Four Cease and Desist Orders; Termination of Investigation

AGENCY: U.S. International Trade Commission.

ACTION: Notice.

SUMMARY: Notice is hereby given that the U.S. International Trade Commission has determined to issue a general exclusion order (“GEO”) and four cease and desist orders (“CDOs”) in the above-captioned investigation. The Commission has terminated this investigation.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the investigation on July 23, 2018, based on a complaint filed by SnapRays, LLC d/b/a SnapPower of Vineyard, UT (“SnapPower,” or “Complainant”). 83 FR 34871 (July 23, 2018). The complaint, as supplemented, alleges violations of section 337 of the Tariff Act of 1930, as amended, 19 U.S.C. 1337 (“section 337”), in the importation into the United States, the sale for importation, and the sale within the United States after importation of certain powered cover plates by reason of infringement of certain claims of U.S. Patent Nos. 9,871,324; 9,882,361 (“the '361 patent”); 9,917,430; and U.S. Design Patent No. D819,426. Id. at 34872. The complaint further alleges that a domestic industry exists. Id. The Commission's notice of investigation named the following respondents: (1) Ontel Products Corporation of Fairfield, New Jersey; (2) Dazone, LLC of Ontario, Canada (“Dazone”); (3) Shenzhen C-Myway of Shenzhen, Guangdong, China; (4) E-Zshop4u LLC of Howey in the Hills, Florida; (5) Desteny Store of Fort Meyers, Florida (“Desteny”); (6) Zhongshan Led-Up Light Co., Ltd. of Zhongshan, Guangdong, China; (7) AllTrade Tools LLC of Cypress, California; (8) Guangzhou Sailu Info Tech. Co., Ltd. of Guangzhou, Gunagdong, China; (9) Zhejiang New-Epoch Communication Industry Co., Ltd. of Yueging, Zhejiang, China (“NEPCI”); (10) KCC Industries of Eastvale, California; (11) Vistek Technology Co., Ltd. of Fuyong, Baoan, Shenzhen, China (“Vistek”); (12) Enstant Technology Co., Ltd. of Xixiang Baoan District, Shenzhen, China (“Enstant”); and (13) Manufacturers Components Incorporated of Pompano Beach, Florida (“MCI”). Id. The Office of Unfair Import Investigations is participating in the investigation.

The Commission previously terminated the investigation as to, or found in default, all named respondents except Enstant and Vistek (collectively, “Enstant/Vistek”). Order No. 5 (Sept. 26, 2018), non-reviewed Notice (Oct. 29, 2018); Order No. 6 (Sept. 26, 2018), non-reviewed Notice (Oct. 29, 2018); Order No. 8 (Sept. 28, 2018), non-reviewed Notice (Oct. 23, 2018); Order No. 12 (Oct. 2, 2018), non-reviewed Notice (Nov. 27, 2018); Order No. 18 (Nov. 28, 2018), non-reviewed Notice (Dec. 21, 2018); Order, No. 36 (Apr. 11, 2019), non-reviewed Notice (May 8, 2019).

Respondents Enstant and Vistek chose not to contest importation and infringement. Similarly, there were no genuine disputes of material fact with respect to the technical prong of the domestic industry (“DI”) requirement. As a result, the presiding administrative law judge (“ALJ”) decided these legal issues against Enstant and Vistek and the Defaulting Respondents through orders granting complainant SnapPower's motions for summary determination. See Order No. 39 (July 10, 2019) (Importation and Infringement); Order No. 40 (July 22, 2019) (Technical DI)).

On August 12, 2019, the ALJ issued an “Initial Determination on Violation of Section 337 and Recommended Determination on Remedy and Bond” (“ID/RD”) finding a violation of section 337 with respect to the participating respondents Enstant and Vistek and defaulting respondents Dazone, Desteny, MCI, and NEPCI (collectively, “Defaulting Respondents”) under all of the asserted patents. See ID/RD at 125-26.

The final ID notes that “Respondents Enstant and Vistek filed a motion for summary determination of non-infringement (`Redesign SD Motion') of [the '361 patent] by Redesign Models P001 (Smart Wall Plate Charger, Decor Outlet, with USB charger) and P002 (Smart Wall Plate Charger, Duplex Outlet with USB charger).” ID/RD at 14. In the Redesign SD Motion, Enstant sought summary determination that powered cover plate model numbers P001 and P002 (“Enstant's Redesigns”) do not infringe claims 1, 3-4, 10, 14, 17, 21, and 23-24 of the '361 patent. Redesign SD Motion at 16. The final ID finds, however, that “Enstant's and Vistek's Redesign SD Motion was effectively rendered moot by rulings on Motions in Limine even though Enstant and Vistek's Redesign SD Motion was granted during the March 29, 2019 Teleconference.” ID/RD at 14 (citing Tel. Tr. at 7:15-9:14 (Mar. 29, 2019)).

The ALJ's rulings on Motions in Limine addressed: (1) Enstant/Vistek's Motion in Limine (“Respondents' MIL”) to preclude Complainant SnapPower from asserting or providing evidence during the evidentiary hearing (“Hearing”) that the Enstant Redesigns infringe any SnapPower patents, Order No. 42 at 1 (Aug. 12, 2019) (citing Motion Docket No. 1124-041 (Feb. 19, 2019); Respondents' MIL at 2); and (2) SnapPower's Corrected Motion In Limine (“SnapPower MIL”) to preclude evidence of the Enstant Redesigns from the Hearing, and in the alternative, to permit SnapPower to assert infringement against the Redesigns by amending the Complaint and Notice of Investigation, Order No. 42 at 2 n. 2 (citing Motion Docket No. 1124-033 (Feb. 13, 2019), SnapPower MIL at 1). See also ID/RD at 14-15.

On October 11, 2019, the Commission determined to review the final ID in part and to remand the investigation to the ALJ for a remand initial determination (“RID”) to address the final ID's finding that Enstant/Vistek's Redesign SD Motion is moot. 84 FR 55985-86 (Oct. 18, 2019).

By not reviewing the relevant portion of the final ID, see id. at 55986, the Commission found a violation of section 337 with respect to participating respondents Enstant and Vistek, and the Defaulting Respondents Dazone, Desteny, NEPCI, and MCI. See id. at 55985-86. See also ID/RD at 3-4, 125-26.

On January 30, 2020, the ALJ issued an RID, granting Enstant's Redesign SD Motion. Specifically. the RID finds that there is no dispute that Enstant's Redesigns do not infringe claims 1, 3-4, 10, 14, 17, 21, and 23-24 of the '361 patent—the only patent asserted against Enstant's Redesigns. RID at 15-20. No party petitioned for review of the RID. The Commission determined not to review the RID. See 85 FR 21457-59 (Apr. 17, 2020) (“Commission Notice”). The Commission also requested written submissions on remedy, the public interest, and bonding. Id. at 21458-59.

On March 30, 2020, all parties to the investigation filed their opening written submissions on remedy, the public interest, and bonding. On April 7, 2020, all parties filed their responsive written submissions. No other submissions were received by the Commission.

Having examined the record in this investigation, including the parties' submissions on remedy, the public interest, and bonding filed in response to the Commission Notice, the Commission has determined that the appropriate form of relief in this investigation is: (1) A GEO prohibiting the unlicensed entry of infringing powered cover plates, which are electrical receptacle covers with built-in functionality, that infringe one or more of claims 1, 4, 8, 9, 10, 13, 17, and 19 of the '324 patent; claims 1, 4, 10, 14, 21, 23, and 24 of the '361 patent; claims 1, 2, 3, 7, 18, and 19 of the'430 patent; and the claim of the D'426 patent that are manufactured, and imported from, abroad; and (b) CDOs directed at Respondents Dazone, Desteny, MCI, and NEPCI, and their affiliated companies, parents, subsidiaries, or other related business entities, or their successors or assigns. As noted above, Enstant's Redesigns do not fall within the scope of these remedial orders with respect to the asserted claims of the 361 patent.

The Commission has further determined that the public interest factors enumerated in subsections (d)(l) and (f)(1) (19 U.S.C. 1337(d)(l), (f)(1)) do not preclude issuance of the above-referenced remedial orders. Additionally, the Commission has determined to impose a bond of one hundred (100) percent of entered value of the covered products during the period of Presidential review (19 U.S.C. 1337(j)).

The investigation is terminated.

The Commission vote for this determination took place on June 11, 2020.

The authority for the Commission's determination is contained in section 337 of the Tariff Act of 1930, as amended (19 U.S.C. 1337), and in Part 210 of the Commission's Rules of Practice and Procedure (19 CFR part 210).

By order of the Commission.
Issued: June 11, 2020.
Lisa Barton,
Secretary to the Commission.

[FR Doc. 2020-12994 Filed 6-16-20; 8:45 am]

BILLING CODE 7020-02-P